NUCLEAR REGULATORY COMMISSION

[Docket No. 72-20; NRC-2017-0136]

U.S. Department of Energy Idaho Operations Office; Three Mile Island Unit 2; Independent Spent Fuel Storage Installation

AGENCY: Nuclear Regulatory Commission.

ACTION: License renewal; issuance.

SUMMARY: The U.S. Nuclear Regulatory Commission (NRC) has issued a renewed license to the U.S. Department of Energy Idaho Operations Office for Special Nuclear Materials (SNM) License No. SNM-2508 for the receipt, possession, transfer, and storage of radioactive material from the Three Mile Island Unit 2 (TMI-2) reactor core in the TMI-2 independent spent fuel storage installation (ISFSI). The TMI-2 ISFSI is located at the Idaho National Laboratory within the perimeter of the Idaho Nuclear Technology and Engineering Center site in Scoville, Butte County, Idaho. The renewed license authorizes operation of the TMI-2 ISFSI in accordance with the provisions of the renewed license and its technical specifications. The renewed license expires on March 19, 2039.

DATES: The license referenced in this document is available as of September 16, 2019.

ADDRESSES: Please refer to Docket ID NRC-2017-0136 when contacting the NRC about the availability of information regarding this document. You may obtain publicly-available information related to this document using any of the following methods:

• Federal Rulemaking website: Go to https://www.regulations.gov and search for Docket ID NRC-2017-0136. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Kristina Banovac, Office of Nuclear Material Safety and Safeguards, U.S. Nuclear Regulatory Commission, Washington, DC 20555-0001; telephone: 301-415-7116, email: Kristina.Banovac@nrc.gov.

SUPPLEMENTARY INFORMATION:

I. Discussion

Based upon the application dated March 6, 2017, as supplemented August 9, 2017, October 3, 2017, October 18, 2017, November 16, 2017, September 26, 2018, October 2, 2018, November 15, 2018, November 21, 2018, April 1, 2019, and May 21, 2019, the NRC has issued a renewed license to the licensee for the TMI-2 ISFSI, located in Scoville, Butte County, Idaho. The renewed license SNM-2508 authorizes and requires operation of the TMI-2 ISFSI in accordance with the provisions of the renewed license and its technical specifications. The renewed license will expire on March 19, 2039.

The licensee's application for a renewed license complies with the standards and requirements of the Atomic Energy Act of 1954, as amended (the Act), and the NRC's rules and regulations. The NRC has made appropriate findings as required by the Act and the NRC's regulations in chapter 1 of title 10 of the Code of Federal Regulations (10 CFR), and sets forth those findings in the renewed license. The agency afforded an opportunity for a hearing in the Notice of Opportunity for a Hearing published in the Federal Register on June 9, 2017 (82 FR 26815). The NRC received no request for a hearing or petition for leave to intervene following the notice.

The NRC staff prepared a safety evaluation report for the renewal of the ISFSI license and concluded, based on that evaluation, the ISFSI will continue to meet the regulations in 10 CFR part 72. The NRC staff also prepared an environmental assessment and finding of no significant impact for the renewal of this license, which were published in the Federal Register on September 16, 2019 (84 FR 48651). The NRC staff's consideration of the impacts of continued storage of spent nuclear fuel (as documented in NUREG-2157, “Generic Environmental Impact Statement for Continued Storage of Spent Fuel”) was included in the environmental assessment. The NRC staff concluded that renewal of this ISFSI license will not have a significant impact on the quality of the human environment.

II. Availability of Documents

The following table includes the ADAMS Accession Numbers for the documents referenced in this notice. For additional information on accessing ADAMS, see the ADDRESSES section of this document.

Document | ADAMS Accession No.
Licensee's application, dated March 6, 2017 | ML19053A310
Submittal of Requested References, dated August 9, 2017 | ML17248A347
Response to Request for Additional Information for the Environmental Review, dated October 3, 2017 | ML17305A060
Submittal of Additional Requested Reference, dated October 18, 2017 | ML17298A771
Submittal of Supplemental Information for the Environmental Review, dated November 16, 2017 | ML17345A156
Response to Request for Additional Information for the Technical Review, dated September 26, 2018 | ML18283A222
Submittal of Final Safety Analysis Report Information and Design Drawings, dated October 2, 2018 | ML18303A125
Submittal of Additional Requested Reference, dated November 15, 2018 | ML18331A337
Submittal of Additional TMI-2 Canister Drawings, dated November 21, 2018 | ML18331A262
Response to Request for Clarification of Response to Technical Request for Additional Information, dated April 1, 2019 | ML19093B118
Response to Request for Additional Clarification, dated May 21, 2019 | ML19143A217
Special Nuclear Materials License No. SNM-2508 | ML19259A014, ML19259A016
SNM-2508 Technical Specifications | ML19259A017
NRC Safety Evaluation Report | ML19259A013
NRC Environmental Assessment | ML19122A285
NUREG-2157, “Generic Environmental Impact Statement for Continued Storage of Spent Fuel” Vol. 1 | ML14196A105
NUREG-2157, “Generic Environmental Impact Statement for Continued Storage of Spent Fuel” Vol. 2 | ML14196A107

Dated at Rockville, Maryland, this 20th day of September, 2019.
For the Nuclear Regulatory Commission.
Meraj Rahimi,
Chief, Renewals and Materials Branch, Division of Spent Fuel Management, Office of Nuclear Material Safety and Safeguards.

[FR Doc. 2019-20853 Filed 9-24-19; 8:45 am]

BILLING CODE 7590-01-P